DEPARTMENT OF JUSTICE

Notice of Lodging of Consent Decree Pursuant to the Clean Water Act

In accordance with Departmental Policy, 28 CFR 50.7, notice is hereby given that a consent decree resolving the liability of Hyponex Corporation in United States of America v. Hyponex Corp., Civil Action No. 92-1940 (D.N.J.), was lodged with the United States District Court for the District of New Jersey on July 6, 2004.

The proposed consent decree concerns alleged violations of the Clean Water Act, 33 U.S.C. 1311, resulting from the unauthorized discharge of dredged or fill materials into waters of the United States at a location in Hampton Township, Sussex County, New Jersey (the “Site”). The consent decree enjoins Hyponex Corporation from discharging dredged or fill material into waters of the United States at the Site. The consent decree further requires that Hyponex Corporation: (a) Implement a restoration plan to restore wetlands damaged by the unauthorized discharges at the Site and to enhance other wetlands at the Site; (b) pay a civil penalty of $50,000; (c) place a conservation easement on over 1,000 acres of land at the Site, which includes all wetlands at the Site, and transfer that property to an organization approved by the Corps of Engineers for the purpose of permanently protecting and managing the transferred property in an undeveloped state, consistent with the function and values of the wetlands at the Site; and (d) pay $125,000 to establish a fund to be used by the holder of the conservation easement for the purpose of overseeing the preservation and maintenance of the 1,000-plus acre period. The consent decree also requires that Hyponex Corporation dismiss with prejudice all claims and counterclaims which have been or could have been asserted against the United States with regard to the Site.

The Department of Justice will receive written comments relating to the proposed consent decree for a period of thirty (30) days from the date of publication of this notice. Comments should be addressed to the Assistant Attorney General, Environment and Natural Resources Division, United States Department of Justice, Attention: Michael J. Zevenbergen, Attorney, Environmental Defense Section, Seattle Field Office, c/o NOAA/Damage Assessment, 7600 Sand Point Way NE, Seattle, WA 98115, and should refer to United States of America v. Hyponex Corp., DJ Reference No. 90-5-1-1-3685.

The proposed consent decree may be examined at the Clerk's Office, United States District Court, Martin Luther King Federal Building and Courthouse, 50 Walnut Street, Newark, NJ 07102.

Letitia J. Grishaw,
Chief, Environmental Defense Section, Environment and Natural Resources Division, Department of Justice.

[FR Doc. 04-18400 Filed 8-10-04; 8:45 am]

BILLING CODE 4410-15-M